COMMITTEE FOR THE IMPLEMENTATION OF TEXTILE AGREEMENTS

Staged Entry of China Safeguard Overshipments to be Affected by the Reclassification of Shipments That Were Entered Incorrectly

February 1, 2006.

AGENCY: The Committee for the Implementation of Textile Agreements (CITA).

ACTION: Notice.

FOR FURTHER INFORMATION CONTACT: Ross Arnold, International Trade Specialist, Office of Textiles and Apparel, U.S. Department of Commerce, (202) 482-4212.

SUPPLEMENTARY INFORMATION:

Authority: Section 204 of the Agricultural Act of 1956, as amended (7 U.S.C. 1854); Executive Order 11651 of March 3, 1972, as amended.

As the result of an investigation into the evasion of China safeguard quotas, CBP has seized shipments of apparel from China that had been deliberately misdescribed and misclassified as being of “ramie” fabric, but which were actually of cotton and/or man-made fiber. Further investigation has found that shipments had already entered as being of “ramie” fabric, but were also of cotton and/or man-made fiber.

U.S. Customs and Border Protection (CBP) will adjust individual entries that had been entered incorrectly in 2005 to reflect the correct classification of apparel that should have entered and been charged against the 2005 safeguard limits in categories 338/339, 347/348, and 647/648. Any adjusted charges will be applied to scheduled staged entries of overshipments (70 FR 72427), beginning on March 1, 2006. This action may impact the amount of additional shipments that will be released during this and subsequent staged entries.

James C. Leonard III,
Chairman, Committee for the Implementation of Textile Agreements.

[FR Doc. E6-1609 Filed 2-6-06; 8:45 am]

BILLING CODE 3510-DS-S